FEDERAL COMMUNICATIONS COMMISSION

Notice of Public Information Collection(s) Being Reviewed by the Federal Communications Commission for Extension Under Delegated Authority

November 15, 2006.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comment on this information collection should submit comments January 29, 2007. If you anticipate that you will be submitting comments, but find it difficult to do so within the period of time allowed by this notice, you should advise the contact listed below as soon as possible.

ADDRESSES: Direct all PRA comments to Allison E. Zaleski, Office of Management and Budget (OMB), Room 10236 NEOB, Washington, DC 20503, (202) 395-6466, or via fax at 202-395-5167, or via the Internet at Allison_E._Zaleski@eop.omb.gov and to Judith-B.Herman@fcc.gov, Federal Communications Commission (FCC), Room 1-B441, 445 12th Street, SW., Washington, DC 20554. To submit your comments by e-mail send them to: PRA@fcc.gov. If you would like to obtain or view a copy of this information collection after the 60-day comment period, you may do so by visiting the FCC PRA Web page at: http://www.fcc.gov/omd/pra.

FOR FURTHER INFORMATION CONTACT: For additional information about the information collection(s) send an e-mail to PRA@fcc.gov or contact Judith B. Herman at 202-418-0214.

SUPPLEMENTARY INFORMATION: OMB Control No.: 3060-1063.

Title: Global Mobile Personal Communications by Satellite (GMPCS) Authorization, Marketing and Importation Rules.

Form No: N/A.

Type of Review: Extension of a currently approved collection.

Respondents: Business or other for-profit.

Number of Respondents: 19 respondents; 19 responses.

Estimated Time Per Response: 24 hours.

Frequency of Response: On occasion and one-time reporting requirements, recordkeeping requirement and third party disclosure requirements.

Nature of Response: Mandatory.

Total Annual Burden: 483 hours.

Annual Cost Burden: N/A.

Privacy Act Impact Assessment: N/A.

Nature and Extent of Confidentiality: Entities may request confidential treatment of their applications and filings under 47 CFR 0.459 of the Commission's rules.

Needs and Uses: This collection will be submitted as an extension (no change in reporting requirements, recordkeeping requirements, and third party disclosure requirements) after this 60-day comment period to Office of Management and Budget (OMB) in order to obtain the full three-year clearance. There is no change in the number of respondents or burden hours. In 2003, the Federal Communications Commission (“Commission”) released a Second Report and Order (FCC 03-283) to adopt rules and policies pertaining to portable GMPCS transceivers, which include satellite telephones and other portable transceivers operated by end users for communication via direct radio links with satellites. The Commission requires interested parties to obtain equipment authorization pursuant to the certification procedures in part 2 of the Commission's rules. The part 2 certification procedure requires submission of an application (FCC Form 731) and exhibits to the Commission, including test data showing that a representative sample unit of the devices that would be covered by the certification, meets the Commission's applicable technical requirements.

Note: The FCC Form 731 is approved by the Office of Management and Budget (OMB) under OMB Control Number 3060-0057). The requirement applies to devices imported, sold, leased, shipped, or distributed after November 19, 2004. Without this collection of information, the Commission would not be able to prevent interference and reduce the radio-frequency (“RF”) radiation exposure risk of GMPCS devices.

OMB Control No.: 3060-1066.

Title: Renewal of Application for Satellite Space and Earth Station Authorization.

Form No: FCC Form 312-R.

Type of Review: Extension of a currently approved collection.

Respondents: Business or other for-profit.

Number of Respondents: 6 respondents; 6 responses.

Estimated Time Per Response: 2 hours.

Frequency of Response: On occasion reporting requirement.

Nature of Response: Required to obtain or retain benefits.

Total Annual Burden: 12 hours.

Annual Cost Burden: $2,000.

Privacy Act Impact Assessment: N/A.

Nature and Extent of Confidentiality: There is no need for confidentiality.

Needs and Uses: This collection will be submitted as an extension (no change in reporting requirements) after this 60-day comment period to Office of Management and Budget (OMB) in order to obtain the full three-year clearance. There is no change in the number of respondents or burden hours or annual costs.

The FCC Form 312-R is used by earth station licensees to request renewals of their applications. The information collection requirements are necessary to determine the technical and legal qualifications of applicants or licensees to operate a station, transfer or assign a license, and to determine whether the authorization is in the public interest, convenience and necessity. All renewal earth station applications filed under part 25 are included in this collection. Without such information, the Commission could not determine whether to permit respondents to provide telecommunications services in the United States. Therefore, the Commission would be unable to fulfill its statutory responsibilities in accordance with the Communications Act of 1934, as amended, and the obligations imposed on parties to the WTO Basic Telecom Agreement.

Federal Communications Commission.
Marlene H. Dortch,
Secretary.

[FR Doc. E6-20017 Filed 11-28-06; 8:45 am]

BILLING CODE 6712-01-P